SMALL BUSINESS ADMINISTRATION

Public Federal Regulatory Enforcement Fairness Roundtable; Small Business Administration, Region I Regulatory Fairness Board

The Small Business Administration Region I Regulatory Fairness Board and the SBA Office of the National Ombudsman will hold a Public Roundtable on Tuesday, September 23, 2003 at 9:30 a.m. at The Vermont Statehouse, 115 State Street, Room 11, First Floor, Montpelier, VT 05602, to provide small business owners and representatives of trade associations with an opportunity to share information concerning the federal regulatory enforcement and compliance environment.

Anyone wishing to attend or to make a presentation must contact Vallerie H. Morse in writing or by fax, in order to be put on the agenda. Vallerie H. Morse, U.S. Small Business Administration, Vermont District Office, 87 State Street, Room 205, P.O. Box 605, Montpelier, VT 05601, phone (802) 828-4422, Ext. 211, fax (802) 82-4485, e-mail: vallerie.morse@sba.gov.

For more information, see our Web site at http://www.sba.gov/ombudsman.

Dated: September 2, 2003.
Michael L. Barrera,
National Ombudsman.

[FR Doc. 03-23081 Filed 9-9-03; 8:45 am]

BILLING CODE 8025-01-P